DEPARTMENT OF LABOR

Employment and Training Administration

[TA-W-55,830]

Modine Manufacturing Aftermarket Business, Currently Known As Proliance International, Emporia, Kansas; Amended Certification Regarding Eligibility to Apply for Worker Adjustment Assistance and Alternative Trade Adjustment Assistance

In accordance with section 223 of the Trade Act of 1974 (19 U.S.C. 2273) the Department of Labor issued Amended Certification Regarding Eligibility to Apply for Worker Adjustment Assistance and Alternative Trade Adjustment Assistance on November 5, 2004, applicable to workers of Modine Manufacturing, Emporia, Kansas. The notice was published in the Federal Register on December 9, 2004 (69 FR 71429).

At the request of the State agency, the Department reviewed the certification for workers of the subject firm. The workers were engaged in the production of aftermarket automotive radiators.

New information from the company and the State agency shows that on July 23, 2005, the Aftermarket Business of Modine Manufacturing merged with Transpro, Inc. and formed a combined company named Proliance International. Workers separated from employment at the subject firm had their wages reported under a separated unemployment insurance (UI) tax account for Proliance International.

Accordingly, the Department is amending this certification to properly reflect this matter.

The intent of the Department's certification is to include all workers of the Aftermarket Business, Modine Manufacturing who were adversely affected by increased imports.

The amended notice applicable to TA-W-55,830 is hereby issued as follows:

All workers of the Aftermarket Business of Modine Manufacturing, which became known as Proliance International, Emporia, Kansas, who became totally or partially separated from employment on or after October 18, 2003, through November 5, 2006, are eligible to apply for adjustment assistance under section 223 of the Trade Act of 1974, and are also eligible to apply for alternative trade adjustment assistance under section 246 of the Trade Act of 1974.

Signed in Washington, DC this 26th day of July 2005.
Richard Church,
Certifying Officer, Division of Trade Adjustment Assistance.

[FR Doc. E5-4212 Filed 8-4-05; 8:45 am]

BILLING CODE 4510-30-P